DEPARTMENT OF HEALTH AND HUMAN SERVICES

National Institutes of Health

National Institute of Mental Health; Notice of Meeting

Notice is hereby given of a change in the meeting of the National Advisory Mental Health Council, January 24, 2013, 08:30 a.m. to January 24, 2013, 05:00 p.m., National Institutes of Health, Neuroscience Center, 6001 Executive Boulevard, Conference Room C/D/E, Rockville, MD 20852, which was published in the Federal Register on December 13, 2012, 77 FR 74198.

The time for each session has changed. The open session will still start at 08:30 a.m. but will now recess at 01:00 p.m. The closed session will now start at 02:00 p.m. and will still end at 05:00 p.m. The meeting is partially Closed to the public.

Dated: January 7, 2013.
Carolyn A. Baum,
Program Analyst, Office of Federal Advisory Committee Policy.

[FR Doc. 2013-00385 Filed 1-10-13; 8:45 am]

BILLING CODE 4140-01-P